NUCLEAR REGULATORY COMMISSION

[Docket No. 50-331]

Nuclear Management Company, LLC; Notice of Consideration of Issuance of Amendment to Facility Operating License and Opportunity for a Hearing

The U.S. Nuclear Regulatory Commission (the Commission) is considering issuance of an amendment to Facility Operating License No. DPR-49, held by Nuclear Management Company, LLC (the licensee), for operation of the Duane Arnold Energy Center (the facility) located in Linn County, Iowa.

By letter dated November 16, 2000, as supplemented April 16 (2 letters), April 17, May 8 (2 letters), May 10, May 11 (2 letters), May 22, May 29, June 5, June 11, June 18, June 21, June 28, July 11, July 19, July 25, August 1 (2 letters), August 10, August 16, and August 21, 2001, the licensee proposed an amendment to change the operating license. Specifically, the proposed amendment would allow an increase of the operating power level authorized by Section 2.C.(1) of the operating license from 1658 megawatts thermal (MWt) to 1912 MWt at the facility. The request includes supporting technical specification (TS) changes and a revision of license condition, 2.C.(2)(a) to Operating License No. DPR-49, which are necessary to implement this increase in licensed power level. The change represents an increase of 15.3 percent above the current rated thermal power and is considered an extended power uprate. The proposed changes include:

Operating License DPR-49, Section 2.C.(1): Revise the Maximum Power Level to be 1912 MWt.

Operating License DPR-49, Section 2.C.(2)(a): Modify existing license condition 2.C.(2)(a) to allow existing Surveillance Requirements (SRs) whose acceptance criteria is affected by this increase in authorized power level, to be considered to be performed per TS SR 3.0.1, upon implementation of the license amendment approving this application, until their next scheduled performance, in accordance with TS SR 3.0.2.

Section 1.1, Definitions: Revise the definition of Rated Thermal Power to be the extended power uprate maximum licensed power level of 1912 MWt.

SL 2.1.1.1: Revise the safety limit (SL) for fuel cladding integrity at low core flow and reactor pressure from the current 25 percent rated thermal power (RTP) to 21.7 percent RTP (25 percent x 1658/1912).

LCO 3.2.1: Applicability, Required Action B.1, and SR 3.2.1.1: Revise the percentage of RTP value related to thermal limits monitoring from 25 percent RTP to 21.7 percent RTP.

LCO 3.2.2: Applicability, Required Action B.1, and SR 3.2.2.1: Revise the percentage of RTP value related to thermal limits monitoring from 25 percent RTP to 21.7 percent RTP.

LCO 3.3.1.1: SR 3.3.1.1.2: Revise the percentage of RTP value related to deferral of the SR until 12 hours after reaching 25 percent RTP during plant startup, from 25 percent RTP value to 21.7 percent. The RTP value being changed is contained in the SR and the associated NOTE.

LCO 3.3.1.1: Required Action E.1, SR 3.3.1.1.16, and Table 3.3.1.1-1 Functions 8 and 9: Revise the percentage of RTP value corresponding to the power level where the direct reactor protection system (RPS) trips, i.e., scram, on turbine stop valve (TSV) or turbine control valve (TCV) fast closure are automatically bypassed from 30 percent RTP to 26 percent RTP.

LCO 3.3.4.1: Applicability, Required Action C.2, and SR 3.3.4.1.4: Revise the percentage of RTP value corresponding to the power level where the end-of-cycle recirculation pump trip on TSV or TCV fast closure is automatically bypassed from 30 percent RTP to 26 percent RTP.

LCO 3.3.1.1: Table 3.3.1.1-1 Function 2b: Description of Change: Replace the current allowable values (AVs) for the two-loop operation average power range monitor (APRM) flow-biased, high RPS trip with the equation for the AV to implement the maximum extended load line limit analysis (MELLLA). A new footnote (c) is being added to define the term “W” used in the AV equation.

LCO 3.3.1.1: Table 3.3.1.1-1 Footnote (b): Replace the current AVs for the single-loop operation APRM flow biased-high RPS trip with the equation for the AV to implement the MELLLA. The new footnote (c) identified above is used to define the term “W” used in the AV equation.

LCO 3.4.1: SR 3.4.1.1 a & b: Revise the percentage of RTP value corresponding to the power level where a recirculation pump speed mismatch surveillance is performed from 80 percent RTP to 69.4 percent RTP.

LCO 3.4.2: SR 3.4.2.1: Revise the percentage of RTP value contained in NOTE 2 corresponding to the power level where the evaluation of jet pump performance can be deferred for up to 24 hours from 25 percent RTP to 21.7 percent RTP.

LCO 3.6.3.1: SR 3.6.3.1.1: Revise the volume requirement for nitrogen storage for the containment atmospheric dilution (CAD) system from 50,000 scf to 67,000 scf.

LCO 3.6.3.1: SR 3.6.3.1.2: Add a comma to clearly delineate the requirement for performing the SR for both manual and power-operated valves in the CAD system.

LCO 3.7.7: Applicability and Required Action B.1: Revise the percentage of rated thermal power value where the main turbine bypass valve system is required to be OPERABLE from 25 percent RTP to 21.7 percent RTP.

Section 5.5.12, Primary Containment Leakage Testing Program: Revise the peak calculate containment pressure (Pa) from 43 psig to 45.7 psig.

Before issuance of the proposed license amendment, the Commission will have made findings required by the Atomic Energy Act of 1954, as amended (the Act) and the Commission's regulations.

By October 29, 2001, the licensee may file a request for a hearing with respect to issuance of the amendment to the subject facility operating license and any person whose interest may be affected by this proceeding and who wishes to participate as a party in the proceeding must file a written request for a hearing and a petition for leave to intervene. Requests for a hearing and a petition for leave to intervene shall be filed in accordance with the Commission's “Rules of Practice for Domestic Licensing Proceedings” in 10 CFR part 2.

Interested persons should consult a current copy of 10 CFR 2.714 which is available at the Commission's Public Document Room, located at One White Flint North, 11555 Rockville Pike (first floor), Rockville, Maryland 20855-2738, and accessible electronically through the ADAMS Public Electronic Reading Room link at the NRC Web site (http://www.nrc.gov). If a request for a hearing or petition for leave to intervene is filed by the above date, the Commission or an Atomic Safety and Licensing Board, designated by the Commission or by the Chairman of the Atomic Safety and Licensing Board Panel, will rule on the request and/or petition; and the Secretary or the designated Atomic Safety and Licensing Board will issue a notice of hearing or an appropriate order.

As required by 10 CFR 2.714, a petition for leave to intervene shall set forth with particularity the interest of the petitioner in the proceeding, and how that interest may be affected by the results of the proceeding. The petition should specifically explain the reasons why intervention should be permitted with particular reference to the following factors: (1) the nature of the petitioner's right under the Act to be made a party to the proceeding; (2) the nature and extent of the petitioner's property, financial, or other interest in the proceeding; and (3) the possible effect of any order which may be entered in the proceeding on the petitioner's interest. The petition should also identify the specific aspect(s) of the subject matter of the proceeding as to which petitioner wishes to intervene. Any person who has filed a petition for leave to intervene or who has been admitted as a party may amend the petition without requesting leave of the Board up to 15 days prior to the first prehearing conference scheduled in the proceeding, but such an amended petition must satisfy the specificity requirements described above.

Not later than 15 days prior to the first prehearing conference scheduled in the proceeding, a petitioner shall file a supplement to the petition to intervene which must include a list of the contentions which are sought to be litigated in the matter. Each contention must consist of a specific statement of the issue of law or fact to be raised or controverted. In addition, the petitioner shall provide a brief explanation of the bases of the contention and a concise statement of the alleged facts or expert opinion which support the contention and on which the petitioner intends to rely in proving the contention at the hearing. The petitioner must also provide references to those specific sources and documents of which the petitioner is aware and on which the petitioner intends to rely to establish those facts or expert opinion. Petitioner must provide sufficient information to show that a genuine dispute exists with the applicant on a material issue of law or fact. Contentions shall be limited to matters within the scope of the amendment under consideration. The contention must be one which, if proven, would entitle the petitioner to relief. A petitioner who fails to file such a supplement which satisfies these requirements with respect to at least one contention will not be permitted to participate as a party.

Those permitted to intervene become parties to the proceeding, subject to any limitations in the order granting leave to intervene, and have the opportunity to participate fully in the conduct of the hearing, including the opportunity to present evidence and cross-examine witnesses.

A request for a hearing or a petition for leave to intervene must be filed with the Secretary of the Commission, U.S. Nuclear Regulatory Commission, Washington, DC 20555-0001, Attention: Rulemakings and Adjudications Staff, or may be delivered to the Commission's Public Document Room, located at One White Flint North, 11555 Rockville Pike (first floor), Rockville, Maryland 20855-2738, by the above date. A copy of the petition should also be sent to the Office of the General Counsel, U.S. Nuclear Regulatory Commission, Washington, DC 20555-0001, and to Al Gutterman, Morgan, Lewis, & Bockius LLP, 1800 M Street, NW., Washington, DC 20036-5869, attorney for the licensee.

Nontimely filings of petitions for leave to intervene, amended petitions, supplemental petitions and/or requests for hearing will not be entertained absent a determination by the Commission, the presiding officer or the presiding Atomic Safety and Licensing Board that the petition and/or request should be granted based upon a balancing of the factors specified in 10 CFR 2.714(a)(1)(i)-(v) and 2.714(d).

If a request for a hearing is received, the Commission's staff may issue the amendment after it completes its technical review and prior to the completion of any required hearing if it publishes a further notice for public comment of its proposed finding of no significant hazards consideration in accordance with 10 CFR 50.91 and 50.92.

For further details with respect to this action, see the application for amendment dated November 16, 2000, which is available for public inspection at the Commission's Public Document Room, located at One White Flint North, 11555 Rockville Pike (first floor), Rockville, Maryland 20855-2738, and accessible electronically through the ADAMS Public Electronic Reading Room link at the NRC Web site (http://www.nrc.gov).

Dated at Rockville, Maryland, this 21st day of September 2001.
For the Nuclear Regulatory Commission.
Brenda L. Mozafari,
Project Manager, Section 1, Project Directorate III, Division of Licensing Project Management, Office of Nuclear Reactor Regulation.

[FR Doc. 01-24174 Filed 9-26-01; 8:45 am]

BILLING CODE 7590-01-P